DEPARTMENT OF THE INTERIOR

National Park Service

[NPS-WASO-NAGPRA-19903; PPWOCRADN0-PCU00RP14.R50000]

Notice of Inventory Completion: U.S. Department of Agriculture, United States Forest Service, White River National Forest, Glenwood Springs, CO

AGENCY: National Park Service, Interior.

ACTION: Notice.

SUMMARY: The U.S. Department of Agriculture (USDA), Forest Service, White River National Forest, has completed an inventory of human remains and associated funerary objects, in consultation with the appropriate Indian tribes or Native Hawaiian organizations, and has determined that there is no cultural affiliation between the human remains and any present-day Indian tribes or Native Hawaiian organization. Representatives of any Indian tribe or Native Hawaiian organization not identified in this notice that wish to request transfer of control of these human remains should submit a written request to White River National Forest. If no additional requestors come forward, transfer of control of the human remains and associated funerary objects to the Indian tribes or Native Hawaiian organizations stated in this notice may proceed.

DATES: Representatives of any Indian tribe or Native Hawaiian organization not identified in this notice that wish to request transfer of control of the human remains should submit a written request with information in support of the request to White River National Forest at the address in this notice by February 8, 2016.

ADDRESSES: Mr. Scott Fitzwilliams, The White River National Forest, 900 Grand Avenue, Glenwood Springs, CO 81601, telephone (970) 945-2521.

SUPPLEMENTARY INFORMATION: Notice is here given in accordance with the Native American Graves Protection and Repatriation Act (NAGPRA), 25 U.S.C. 3003, of the completion of an inventory of human remains in the control of the White River National Forest, Glenwood Springs, CO, and in the custody of the Anasazi Heritage Center, Dolores, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the White River National Forest professional staff in consultation with representatives of the Hopi Tribe of Arizona; the Kaibab Band of Paiute Indians of the Kaibab Indian Reservation, Arizona; the Navajo Nation, Arizona, New Mexico, and Utah; the Paiute Indian Tribe of Utah; the Pueblo of Acoma, New Mexico; the Southern Ute Indian Tribe of Southern Ute Reservation, Colorado; the Ute Indian Tribe of the Uintah & Ouray Reservation, Utah; the Ute Mountain Tribe of the Ute Mountain Reservation, Colorado, New Mexico & Utah; and the Zuni Tribe of the Zuni Reservation, New Mexico. Hereafter all tribes listed above are referred to as “The Consulted and Invited Tribes.”

History and Description of the Remains

In 1998, human remains representing, at minimum, two individuals were delivered by a private citizen to the White River National Forest office in Glenwood Springs, CO. The private citizen did not leave personal information but did indicate that the human remains may have originated from southeastern Utah. The human remains consisted of two largely intact crania, and one mandible, likely associated with one of the intact skulls. A separate plastic bag containing a soil matrix (presumably from the site(s) of discovery), three disassociated teeth, and one human bone fragment was also found in the box. It is unknown if the bone fragment(s) and the dissociated teeth were part of the two human skulls although both crania and the single mandible were missing teeth. A cursory anatomical examination revealed the human remains were Native American, one female and one male, both of adult age. The colorations of the individual crania, along with associated soils, suggested that they did not originate from the same site of discovery or excavation. No craniometric examinations were made of the human remains and no destructive (e.g., DNA) analyses were performed. No known individuals were identified. No associated funerary objects are present.

Determinations Made by the White River National Forest, USDA:

Officials of the White River National Forest have determined that:

• Pursuant to 25 U.S.C. 3001(9), the human remains described in this notice are Native American based on archeological context.

• Pursuant to 25 U.S.C. 3001(9), the human remains described in this notice represent the physical remains of, at minimum, two individuals of Native American ancestry.

• Pursuant to 25 U.S.C. 3001(2), a relationship of shared group identity cannot be reasonably traced between the Native American human remains and any present-day Indian tribe.

• According to final judgments of the Indian Claims Commission, the lands from which the Native American human remains were likely removed from one the aboriginal lands of The Consulted and Invited Tribes.

• Pursuant to 43 CFR 10.11(c)(1), the disposition of the human remains may be to the Ute Mountain Ute Tribe of the Ute Mountain Ute Reservation, Colorado, New Mexico & Utah.

Additional Requestors and Disposition

Representatives of any Indian tribe or Native Hawaiian organization not identified in this notice that wish to request transfer of control of these human remains should submit a written request with information in support of the request to Mr. Scott Fitzwilliams, Forest Supervisor, White River National Forest, Glenwood Springs, CO 81601, telephone (970) 945-3200, by February 8, 2016. After that date, if no additional requestors have come forward, transfer of control of the human remains to the Ute Mountain Ute Tribe of the Ute Mountain Reservation, Colorado, New Mexico & Utah may proceed.

White River National Forest is responsible for notifying The Consulted and Invited Tribes that his notice has published.

Dated: December 3, 2015.
Amberleigh Malone,
Acting Manager, National NAGPRA Program.

[FR Doc. 2016-00062 Filed 1-6-16; 8:45 am]

BILLING CODE 4312-50-P